DEPARTMENT OF COMMERCE

International Trade Administration

The Industry Trade Advisory Committee on Chemicals, Pharmaceuticals, Health/Science Products and Services and the Industry Trade Advisory Committee on Intellectual Property Rights; Request for Nominations of Public Health and Health Care Community Representatives

AGENCY: International Trade Administration, Manufacturing and Services, Commerce.

ACTION: Request for nominations.

SUMMARY: The Secretary of Commerce (Commerce) and the United States Trade Representative (USTR) seek nominations for the appointment of public health or health care community representatives to the Industry Trade Advisory Committee on Chemicals, Pharmaceuticals, Health/Science Products and Services (ITAC 3); and the Industry Trade Advisory Committee on Intellectual Property Rights (ITAC 15).

In order to be considered for such an appointment, a nominee must be a U.S. citizen, must represent a U.S. entity in the public health or health care community, and may not be a registered foreign agent under the Foreign Agents Registration Act. A nominee's interest and expertise in public health or health care, international trade, and sectoral issues will be considered. Recruitment information is available on the International Trade Administration Web site at http://www.ita.doc.gov/itac.

FOR FURTHER INFORMATION CONTACT: Further inquiries may be directed to Ingrid V. Mitchem, Director, Industry Trade Advisory Center, U.S. Department of Commerce, 14th and Constitution Avenue, NW., Room 4043, Washington, DC 20230 or Justin J. McCarthy, Assistant USTR for Intergovernmental Affairs, Winder Building, Room 100, 600 17th Street, NW., Washington, DC 20580.

SUPPLEMENTARY INFORMATION:

Background

In section 135 of the 1974 Trade Act, as amended (19 U.S.C. 2155), Congress established a private-sector trade advisory committee system to ensure that U.S. trade policy and trade negotiation objectives adequately reflect U.S. commercial and economic interests. Section 135(a)(1) of the 1974 Trade Act directs the President to “seek information and advice from representative elements of the private sector and the non-Federal governmental sector with respect to:

(A) Negotiating objectives and bargaining positions before entering into a trade agreement under [title I of the 1974 Trade Act and section 2103 of the Bipartisan Trade Promotion Authority Act of 2002];

(B) the operation of any trade agreement once entered into, including preparation for dispute settlement panel proceedings to which the United States is a party; and

(C) other matters arising in connection with the development, implementation, and administration of the trade policy of the United States * * *. ”

Section 135(c)(2) of the 1974 Trade Act provides—

“(2) The President shall establish such sectoral or functional advisory committees as may be appropriate. Such committees shall, insofar as is practicable, be representative of all industry, labor, agricultural, or service interests (including small business interests) in the sector or functional areas concerned. In organizing such committees, the United States Trade Representative and the Secretaries of Commerce, Labor, Agriculture, the Treasury, or other executive departments, as appropriate, shall—

(A) consult with interested private organizations; and

(B) take into account such factors as—

(i) patterns of actual and potential competition between United States industry and agriculture and foreign enterprise in international trade,

(ii) the character of the non-tariff barriers and other distortions affecting such competition,

(iii) the necessity for reasonable limits on the number of such advisory committees,

(iv) the necessity that each committee be reasonably limited in size, and

(v) in the case of each sectoral committee, that the product lines covered by each committee be reasonably related.”

Pursuant to this provision, Commerce and USTR have established and co-chair sixteen Industry Trade Advisory Committees (ITACs), plus an ITAC Committee of Chairs. ITACs provide information and advice that assists the USTR to develop U.S. trade policy and negotiating positions for specific industry sectors. ITAC members serve without compensation and are responsible for all expenses incurred in attending ITAC meetings. For additional information regarding ITAC functions and members, and general qualifications for membership, visit the ITAC Web site at http://www.ita.doc.gov/itac.

Commerce and USTR are now soliciting nominations of representatives of the public health and health care community to serve on ITAC 3 and ITAC 15. Nominations will be considered in light of the eligibility requirements and selection criteria set forth below.

Eligibility

Eligibility to serve as a public health or health care community representative is limited to U.S. citizens who are not full-time employees of a governmental entity, who represent a U.S. entity that is an organization in the public health and health care community and who are not registered with the Department of Justice under the Foreign Agents Registration Act. For purposes of the preceding sentence, a “U.S. entity” is an organization incorporated in the United States (or, if unincorporated, having its headquarters in the United States):

(1) That is controlled by U.S. citizens or by another U.S. entity. An entity is not a U.S. entity if more than 50 percent of its Board of Directors or membership is made up of non-U.S. citizens. If the nominee is to represent an organization more than 10 percent of whose Board of Directors or membership is made up of non-U.S. citizens, or non-U.S. entities, the nominee must demonstrate at the time of nomination that this non-U.S. interest does not constitute control and will not adversely affect his or her ability to serve as a trade advisor to the United States; and

(2) at least 50 percent of whose annual revenue is attributable to non-governmental, U.S. sources.

Selection Criteria

Commerce and USTR will consider nominations of public health and health care community representatives eligible for appointment to ITAC 3 and ITAC 15 in light of the following criteria:

(1) The organization to be represented has demonstrated an interest in health issues relevant to the work of the ITAC.

(2) The nominee has demonstrated a personal interest and expertise in health issues relevant to the work of the ITAC, and ability to work with governmental officials and industry representatives to reach consensus on complex health and international trade issues affecting the relevant industry sector.

(3) Preference will be accorded nominees who also demonstrate knowledge of and familiarity with the relevant industry sector, as well as with international trade matters, including trade policy development, relevant to that sector.

Public health and health care community representatives selected for appointment to an ITAC will be required to have a security clearance.

Application Procedures

To begin the nomination process, please send (1) sponsor letter (must be on organization's letterhead); (2) resume; and (3) organization profile to Ingrid V. Mitchem, Director, Industry Trade Advisory Center, U.S. Department of Commerce, 14th and Constitution Avenue, NW., Room 4043, Washington, DC 20230. Please indicate in your letter the ITAC or ITACs to which you wish to be appointed.

Dated: December 13, 2005.
J. Marc Chittum,
Designated Federal Officer.

[FR Doc. 05-24136 Filed 12-13-05; 1:59 pm]

BILLING CODE 3510-DR-P